FEDERAL EMERGENCY MANAGEMENT AGENCY

44 CFR Part 65

[Docket No. FEMA-D-7515]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Administrator for Federal Insurance and Mitigation Administration reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Acting Administrator for Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Florida: Duval | City of Jacksonville | August 8, 2001; August 15, 2001; Financial News and Daily Record | The Honorable John A. Delaney, Mayor of the City of Jacksonville, 117 West Duval Street, Suite 400, Jacksonville, Florida 32202 | August 1, 2001 | 120077D&E
Georgia: Gwinnett | Unincorporated Areas | August 23, 2001; August 30, 2001; Gwinnett Daily Post | Mr. Wayne Hill, Chairman of the Gwinnett County Board of Commissioners, Justice and Administration Center, 75 Langley Drive, Lawrenceville, Georgia 30045 | November 29, 2001 | 130322D
Kentucky: Whitley | City of Williamsburg | August 17, 2001; August 24, 2001; Times Tribune | The Honorable Bill Nighbert, Mayor of the City of Williamsburg, P.O. Box 119, Williamsburg, Kentucky 40769 | August 10, 2001 | 210228D
Maine: York | Town of Alfred | September 27, 2001; October 4, 2001; The Sanford News | Mr. Perley Yeaton, Chairperson of the Board of Selectmen for the Town of Alfred, P.O. Box 667, Alfred, Maine 04001 | September 19, 2001 | 230191C
Mississippi: Madison | City of Ridgeland | May 17, 2001; May 24, 2001; Madison County Journal | The Honorable Gene F. McGee, Mayor of the City of Ridgeland, P.O. Box 217, Ridgeland, Mississippi 39158 | May 10, 2001 | 280110 D
North Carolina:
Wake | Town of Cary | August 2, 2001; August 9, 2001; The Cary News | The Honorable Glenn D. Lang, Mayor of the Town of Cary, 318 North Academy Street, P.O. Box 8005, Cary, North Carolina 27512 | July 26, 2001 | 370238D
Dare | Unincorporated Areas | August 23, 2001; August 30, 2001; Coastland Times | Mr. Moncie L. Daniels, Chairman of the Board of Commissioners, P.O. Box 1000, Manteo, North Carolina 27954 | August 16, 2001 | 375348E
Wake | Town of Garner | July 18, 2001; July 25, 2001; The News and Observer | Ms. Mary Lou Rand, Town Manager, P.O. Box 446, 900 Seventh Avenue, Garner, North Carolina 27529 | July 11, 2001 | 370240 D
Gaston | City of Gastonia | August 29, 2001; September 5, 2001; The Gaston Gazette | Mayor of the City of Gastonia, P.O. Box 1748, 181 South Street, Gastonia, North Carolina 28053-1748 | December 5, 2001 | 370100D
Wake | City of Raleigh | July 18, 2001; July 25, 2001; The News and Observer | The Honorable Paul Y. Coble, Mayor of the City of Raleigh, P.O. Box 590, 222 West Hargett Street, Raleigh, North Carolina 27602 | July 11, 2001 | 370243 D
Wake | Unincorporated Areas | July 18, 2001; July 25, 2001; The News and Observer | Mr. David Cooke, Wake County Manager, Suite 1100, 337 South Salisbury Street, Raleigh, North Carolina 27602 | July 11, 2001 | 370368 D
Ohio: Warren | City of Mason | September 5, 2001; September 12, 2001; Pulse-Journal | The Honorable John McCurley, Mayor of the City of Mason, 202 West Main Street, Mason, Ohio 45040 | August 30, 2001 | 390559C
South Carolina:
Lexington | City of Columbia | August 20, 2001; August 27, 2001; The State | The Honorable Robert D. Cole, Mayor of the City of Columbia, P.O. Box 147, Columbia, South Carolina 29201 | August 13, 2001 | 450172D
Lexington | Unincorporated Areas | August 20, 2001; August 27, 2001; The State | Mr. Bruce Rucker, Lexington County Council Chairman, 212 South Lake Drive, Lexington, South Carolina 29072 | August 13, 2001 | 450129D
Tennessee: Sullivan | Town of Kingsport | August 23, 2001; August 30, 2001; Kingsport Times | The Honorable Jeanette Blazier, Mayor of the City of Kingsport, 225 West Center Street, City Hall, Kingsport, Tennessee 37660-4237 | August 16, 2001 | 470184D
Virginia: Rockingham | Unincorporated Areas | September 21, 2001; Daily News Record | Mr. Pablo Cuevas, Chairman of the Board of Supervisors, Rockingham County P.O. Box 1252 Harrisonburg, Virginia 22801 | October 12, 2001 | 510133B

(Catalog of Federal Domestic Assistance No. 83.100, “Flood Insurance”)
Dated: October 9, 2001.
Robert F. Shea,
Acting Administrator, Federal Insurance and Mitigation Administration.

[FR Doc. 01-26424 Filed 10-18-01; 8:45 am]

BILLING CODE 6718-04-P